BUREAU OF CONSUMER FINANCIAL PROTECTION

[Docket No. CFPB-2020-0031]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is proposing a new information collection, titled, “Request for an Advisory Opinion.”

DATES: Written comments are encouraged and must be received on or before November 6, 2020 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under Review,” use the dropdown menu “Select Agency” and select “Consumer Financial Protection Bureau” (recent submissions to OMB will be at the top of the list). The same documentation is also available at http://www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION: Title of Collection: Request for an Advisory Opinion.

OMB Control Number: 3170-XXXX.

Type of Review: New collection (Request for a new OMB Control Number).

Affected Public: Businesses and other for-profit entities.

Estimated Number of Respondents: 100.

Estimated Total Annual Burden Hours: 6,000.

Abstract: The Bureau is proposing to establish an Advisory Opinion (AO) Program. AOs issued under the program would be interpretive rules under the Administrative Procedure Act that respond to a specific request for clarity on an interpretive question regarding a Bureau-administered regulation or statute. The Federal Register notice inviting public comment on the proposed program lays out the process for submitting a request by an AO. Under the program, parties would be able to request interpretive guidance, in the form of an AO, to resolve regulatory uncertainty. The Bureau would have discretion to decide which AOs to respond to. The Bureau intends to publish AOs as well as a description of the incoming request. The requests for an AO, and thus the information collection, may be submitted by persons, primarily business or other for-profit entities. The information collected will be used by the Bureau to determine whether to pursue the issuance of an AO responsive to the request.

Request for Comments: The Bureau issued a 60-day Federal Register notice on June 22, 2020, 85 FR 37394, Docket Number: CFPB-2020-0019. Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Dated: October 2, 2020.
Suzan Muslu,
Data Governance Manager, Bureau of Consumer Financial Protection.

[FR Doc. 2020-22193 Filed 10-6-20; 8:45 am]

BILLING CODE 4810-AM-P